DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

TIME AND DATE: October 15, 2020. 10:00 a.m.

PLACE: Open to the public via audio Webcast only.¹

¹ Join FERC online to listen live at http://ferc.capitolconnection.org/.

STATUS: Open.

MATTERS TO BE CONSIDERED: Agenda.

* Note—Items listed on the agenda may be deleted without further notice.

This is a list of matters to be considered by the Commission. It does not include a listing of all documents relevant to the items on the agenda. All public documents, however, may be viewed on line at the Commission's website at http://ferc.capitolconnection.org/ using the eLibrary link.

1071st—Meeting—Open Meeting
[October 15, 2020, 10:00 a.m.]
Item No. | Docket No. | Company
Administrative
A-1 | AD21-1-000 | Agency Administrative Matters.
A-2 | AD21-2-000 | Customer Matters, Reliability, Security and Market Operations.
A-3 | AD06-3-000 | 2020/2021 Winter Energy Market and Reliability Assessment.
Electric
E-1 | RM21-2-000 | Fuel Cell Thermal Energy Output.
| RM20-20-000 | Bloom Energy Corporation.
E-2 | EC20-60-000 | NextEra Energy, Inc., Florida Power & Light Company and Gulf Power Company.
E-3 | ER20-1741-000 | Florida Power & Light Company.
E-4 | ER20-1743-000 | Gulf Power Company.
E-5 | RM19-20-000 | WECC Regional Reliability Standard BAL-002-WECC-3 (Contingency Reserve).
E-6 | ER20-1783-000 | PJM Interconnection, L.L.C. and NextEra Energy.
| ER20-1783-001 | Transmission MidAtlantic Indiana, Inc.
E-7 | ER20-1795-000 | Pacific Gas and Electric Company.
E-8 | ER20-1728-000 | Borrego Solar Systems, Inc.
E-9 | ER20-1642-000 | Mariposa Energy, LLC.
E-10 | ER20-1314-000 | Sunflower Electric Power Corporation.
E-11 | ER20-1078-001 | Midcontinent Independent System Operator, Inc. and Ameren Illinois Company.
| ER20-1079-001 | Midcontinent Independent System Operator, Inc. and Ameren Transmission Company of Illinois.
| ER20-1080-001 (not consolidated) | Midcontinent Independent System Operator, Inc. and Union Electric Company.
E-12 | ER20-942-001 | Midcontinent Independent System Operator, Inc.
| ER20-944-001 (not consolidated) | PJM Interconnection, L.L.C.
E-13 | ER20-938-002 ER20-940-001 | Midcontinent Independent System Operator, Inc.
| ER20-941-002 ER20-943-001 (not consolidated) | Southwest Power Pool, Inc.
E-14 | ER20-359-003 | Midcontinent Independent System Operator, Inc.
E-15 | ER18-1611-000 | Midcontinent Independent System Operator, Inc.
E-16 | ER20-1812-000 | Public Service Electric and Gas Company and PECO Energy Company.
E-17 | ER20-2343-000 | Upstream Wind Energy LLC.
E-18 | ER19-570-000 | Vineyard Wind LLC.
E-19 | ER19-1904-001 | Nevada Power Company.
E-20 | ER19-2821-000 TS19-4-000 | Upper Missouri G. & T. Electric Cooperative, Inc.
E-21 | TS19-1-001 | AMP Transmission, LLC.
E-22 | ER19-2529-003 | Black Hills Wyoming, LLC.
E-23 | ER20-2604-000 | California Independent System Operator Corporation.
E-24 | EL20-48-000 | PP&L Industrial Customer Alliance v. PPL Electric Utilities Corporation.
E-25 | EL19-86-001 | New York State Public Service Commission and New York State Energy Research and Development Authority v. New York Independent System Operator, Inc.
E-26 | EL19-78-001 | National Railroad Passenger Corporation v. PPL Electric Utilities Corporation and PJM Interconnection, L.L.C.
E-27 | EL20-14-001 | Public Service Company of Colorado.
E-28 | ER16-2320-002 | Pacific Gas and Electric Company.
E-29 | ER18-1314-003 ER18-1314-004 ER18-1314-006 | PJM Interconnection, L.L.C.
| EL16-49-003 EL18-178-003 (Consolidated) | Calpine Corporation, Dynegy Inc., Eastern Generation, LLC, Homer City Generation, L.P., NRG Power Marketing LLC, GenOn Energy Management, LLC, Carroll County Energy LLC, C.P. Crane LLC, Essential Power, LLC, Essential Power OPP, LLC, Essential Rock Springs, LLC, Lakewood Cogeneration, L.P., GDF SUEZ Energy Marketing NA, Inc., Oregon Clean Energy, LLC, and Panda Power Generation Infrastructure Fund, LLC. v. PJM Interconnection, L.L.C. PJM Interconnection, L.L.C.
Miscellaneous
M-1 | AD20-14-000 | Carbon Pricing in Organized Wholesale Electricity Markets.
Gas
G-1 | PL21-1-000 | Oil Pipeline Affiliate Contracts.
G-2 | RP20-667-000 | Columbia Gas Transmission, LLC.
G-3 | RP20-745-000 | Alliance for Open Markets v. Northern Border Pipeline Company.
| RP20-767-000 | ConocoPhillips Company, Shell Energy North America (US), L.P. and XTO Energy Inc. v. Northern Border Pipeline Company.
G-4 | RP20-777-000 | Southern Star Central Gas Pipeline, Inc.
G-5 | RP20-913-001 | Gulf South Pipeline Company, LLC.
G-6 | RP17-811-002 RP18-271-000 | Peregrine Oil & Gas II, LLC v. Texas Eastern Transmission, LP.
Hydro
H-1 | P-2153-067 | United Water Conservation District.
H-2 | P-15022-000 | Warrior Hydro, LLC.
H-3 | P-2808-018 | KEI (Maine) Power Management (III) LLC.
H-4 | P-2576-187 | FirstLight CT Housatonic LLC.
H-5 | P-2785-100 P-10809-048 P-10810-054 | Boyce Hydro Power LLC.
Certificates
C-1 | CP20-30-000 | Texas Eastern Transmission, LP.
C-2 | CP20-21-000 | Port Arthur Pipeline, LLC.
C-3 | CP20-1-001 | ANR Pipeline Company.
C-4 | CP19-495-000 CP19-495-001 | Double E Pipeline, LLC.
C-5 | CP19-125-001 | Gulf South Pipeline Company, LLC.
C-6 | CP17-458-002 CP19-17-001 | Midship Pipeline Company, LLC.
C-7 | CP16-10-000 CP19-477-000 | Mountain Valley Pipeline, LLC.
C-8 | CP16-10-006 | Mountain Valley Pipeline, LLC.
| CP16-13-000 | Equitrans, LP.

CONTACT PERSON FOR MORE INFORMATION: Kimberly D. Bose, Secretary, Telephone (202) 502-8400.

For a recorded message listing items struck from or added to the meeting, call (202) 502-8627.

The public is invited to listen to the meeting live at http://ferc.capitolconnection.org/. Anyone with internet access who desires to hear this event can do so by navigating to www.ferc.gov's Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

Issued: October 8, 2020.
Nathaniel J. Davis, Sr.,
Deputy Secretary.

[FR Doc. 2020-22778 Filed 10-9-20; 4:15 pm]

BILLING CODE 6717-01-P